DEPARTMENT OF HOUSING AND URBAN DEVELOPMENT

[Docket No. FR-4859-N-01]

Notice of Funding Availability (NOFA) for the HUD Urban Scholars Fellowship Program

AGENCY: Office of the Assistant Secretary for Policy Development and Research, HUD.

ACTION: Notice of Funding Availability (NOFA).

SUMMARY: Purpose of the Program. To provide encouragement to new scholars to undertake research now, and throughout their careers, on topics of interest to HUD.

Available Funds. Approximately $550,000 from the Fiscal Year (FY) 2003 Consolidated Appropriations Resolution, Division K, has been set aside to fund grants under this NOFA.

Eligible Applicants: Ph.D. recipients who have an academic appointment at an institution of higher education and have received their Ph.D. degrees no earlier than January 1, 1998.

Application Deadline. December 17, 2003.

Match. University support in terms of course load reductions, indirect costs waived, space, etc. is required.

Additional Information

I. Application Due Date

Your completed application must be received on or before December 17, 2003, based on the following submission requirements.

Address for Submitting Applications. Your completed application consists of an original signed application and one copy. Submit your completed application to the following address: The Fellowship Office/HUD GR 346A, National Research Council, 500 Fifth Street, NW., Washington, DC 20001-2736. Only one application per applicant will be accepted.

For Further Information and Technical Assistance. You may contact the National Research Council (NRC) by telephone: (202) 334-2872; fax: (202) 334-3419 (these are not toll-free numbers); or email: infofell@nas.edu.

II. Amount Allocated

Approximately $550,000 made available from the FY 2003 Consolidated Appropriations Resolution (Pub. L. 108-7; approved February 20, 2003), Division K, for the Research and Technology Program, Office of Policy Development and Research, has been set aside to fund grants under this program NOFA.

The maximum grant period is 15 months. The tenure will commence on the effective date of the grant agreement.

The maximum amount to be requested by and awarded to an applicant is $55,000. HUD reserves the right to make awards for less than the maximum amount or less than the amount requested in your application.

III. Program Description; Eligible Applicants; Eligible Activities

(A) Program Description. The purposes of the HUD Urban Scholars Program are to:

(1) Fund research relevant to HUD priorities and issues in the United States and its possessions;

(2) Provide encouragement to new scholars to undertake research now, and throughout their careers, on topics of interest to HUD; and

(3) Make an impact on the academic context in which these scholars work so that this kind of research becomes highly valued. The research priorities for the HUD Urban Scholars Program are designed to inform federal problem-solving and policy-making relating to HUD's Strategic Goals.

(B) HUD's Strategic Goals. HUD's Strategic Goals are to:

(1) Increase Homeownership Opportunities. This strategic goal seeks to increase homeownership opportunities, particularly for minorities; make the home buying process easier and less expensive; fight practices that permit predatory lending; help HUD-assisted renters become homeowners; and keep existing homeowners from losing their homes.

(2) Promote Decent Affordable Housing. This strategic goal seeks to expand access to decent affordable rental housing; improve the physical quality and management accountability of public and assisted housing; increase housing opportunities for the elderly and persons with disabilities; and help HUD-assisted renters achieve progress toward self-sufficiency.

(3) Strengthen Communities. This strategic goal seeks to improve economic conditions in distressed communities; make communities more livable; end chronic homelessness; and mitigate housing conditions that threaten health.

(4) Ensure Equal Opportunity in Housing. HUD's Equal Opportunity in Housing strategic goal seeks to resolve discrimination complaints on a timely basis; promote public awareness of Fair Housing Laws; and improve housing accessibility for persons with disabilities.

(5) Embrace High Standards of Ethics, Management, and Accountability. Through this strategic goal HUD is seeking to rebuild HUD's human capital and further diversify its workforce; improve HUD's management, internal controls and systems, and resolve audit issues; improve accountability, service delivery, and customer service of HUD and its partners; and ensure program compliance.

(6) Promote Participation of Grass-Roots Faith-Based and Other Community-Based Organizations. Through this strategic goal, HUD seeks to reduce regulatory barriers to participation by grass-roots faith-based and other community-based organizations; conduct outreach to inform potential partners of HUD opportunities; expand technical assistance resources deployed to grass-roots faith-based and other community-based organizations; and encourage partnerships between grass-roots faith-based and other community-based organizations and HUD's traditional grantees.

HUD, through its Secretarial Policy Priorities, also encourages applicants to undertake specific activities that will assist the Department in implementing its policy priorities and which will help the Department achieve its Strategic Goals for FY 2004, when the majority of funding recipients will be reporting programmatic results and achievements. Applicants who include research work that address these policy priorities will receive higher rating scores than applicants who do not address these policy priorities. HUD's Secretarial Policy Priorities are:

(1) Providing Increased Homeownership and Rental Opportunities for Low- and Moderate-Income Persons with Disabilities, the Elderly, Minorities, and Families with Limited English Proficiency. Too often these individuals are shut out of the housing market through no fault of their own. Many of these families are anxious to have a home of their own or better or more affordable rental housing, but are not aware of programs and assistance available.

(2) Improving Our Nation's Communities. HUD wants to improve the quality of life for those living in distressed communities by bringing capital to these areas to finance business investments to grow new businesses; maintain and expand existing businesses; create a pool of funds for new small or minority-owned businesses; improve the environmental health and safety of families living in public and privately owned housing; and make communities more livable by providing public and social services and improving infrastructure and community facilities.

(3) Encouraging Accessible Design Features. These design features are intended to promote visitability and incorporate features of universal design in new construction and rehabilitation projects. For more information on visitability visit http://www.concretechange.org. For more information on universal design, visit the Center for Universal Design at http://www.design.ncsu.edu:8120/cud/ or the Resource Center on Accessible Housing and Universal Design at http://www.abledata.com/Site_2/accessib.htm.

(4) Providing Full and Equal Access to Grass-Roots Faith-Based and Other Community-Based Organizations in HUD Program Implementation. HUD encourages non-profit organizations, including grass-roots faith-based and other community-based organizations, to participate in the vast array of programs HUD funds. HUD also encourages states and units of local government, universities and colleges, and other organizations to partner with grass-roots organizations e.g. civic organizations, faith-communities, and grass-roots faith-based and other community-based organizations that have not been effectively utilized. HUD considers an organization to be a grass-roots organization if the organization is headquartered in the local community to which it provides services and has a social services budget of $300,000 or less, or has six or fewer full-time equivalent employees. Local affiliates of national organizations are not considered grass-roots. National organizations are encouraged to partner with grass-roots organizations.

(5) Colonias. HUD is seeking to improve housing conditions for families living in Colonias. Colonias means any identifiable, rural community that: is located within 150 miles of the border between the United States and Mexico; is determined to be a Colonia on the basis of objective need criteria including lack of potable water supply, lack of adequate sewerage systems, and lack of decent, safe, sanitary, and accessible housing.

(6) Participation of Minority-Serving Institutions in HUD Programs. Pursuant to Executive Orders 13256 President's Board of Advisors on Historically Black Colleges and Universities, 13230 President's Advisory Commission on Educational Excellence for Hispanic Americans, 13216 Increasing Participation of Asian Americans and Pacific Islanders in Federal Programs, and 13270 Tribal Colleges and Universities, HUD is strongly committed to broadening the participation of Minority-Serving Institutions (MSI) in its programs to advance the development of human potential, strengthen the nation's capacity to provide high-quality education, and increase opportunities for MSI to participate and benefit from federal financial assistance programs. A listing of MSI can be found on the Department of Education website at http://www.ed.gov/offices/OCR/minorityinst.html.

(7) Participation in Energy Star. HUD has adopted a wide-ranging energy action plan for improving energy efficiency in all programs. The purpose of HUD's Energy Star Partnership with Environmental Protection Agency (EPA) and the Department of Energy (DoE) is to promote energy efficiency of the affordable housing stock and to help protect the environment. HUD also urges the purchase and use of Energy Star products and providing Energy Star promotional materials. For more information about Energy Star visit http://www.energystar.gov.

(8) Ending Chronic Homelessness Within Ten Years. President Bush has set a national goal to end chronic homelessness within ten years, and this has been embraced by Secretary Martinez. A person experiencing chronic homelessness is defined as an individual with a disabling condition who has been continuously homeless for a year or more or has experienced four or more episodes of homelessness over the last three years.

(C) Research Topics. Examples of research topics that will further HUD's Strategic Goals and Policy Priorities related to these goals are:

(1) Increasing Homeownership.

(a) Increasing minority homeownership.

(b) Simplifying the home buying process (RESPA reform) and reducing settlement costs.

(c) Setting appropriate housing goals for the Government Sponsored Enterprises (GSE).

(d) Countering Predatory Lending.

(e) Helping low-income homeowners avoid default and foreclosure.

(f) Evaluating housing counseling.

(2) Improving Our Nation's Communities.

(a) Strengthening the economic viability of communities.

(b) Improving the environmental health and safety of families living in public and privately owned housing.

(c ) Making communities more livable.

(d) Providing increased public and social services.

(e) Improving infrastructure and community facilities.

(3) Encouraging Accessible Design Features and Promoting Decent Affordable Housing.

(a) Reducing regulatory barriers to the development of affordable housing, as well as all forms of multifamily housing.

(b) Meeting the housing-related needs of the elderly.

(c) Meeting the housing-related needs of persons with disabilities.

(d) Meeting the housing-related needs of families with limited English proficiency.

(e) Improving housing quality and affordability through technology and design.

(f) Ensuring visitability in new construction and substantial rehabilitation.

(g) Increasing use of universal design in construction and rehabilitation projects.

(4) Providing full and equal access and participation to Grass-Roots Faith-Based and other Community-Based Organizations and Strengthening the Capacity of Grass-Roots Faith-Based and Other Community-Based Organizations to conduct community, housing, and economic development programs.

(5) Meeting and Improving the Housing and Community and Economic Development Needs of Residents of High-Needs areas such as Colonias, Appalachia, the Mississippi Delta, and Tribal Areas.

(6) Increasing Participation of Minority-Serving Institutions in HUD Programs.

(7) Increasing Participation in Energy Star.

(8) Ending Chronic Homelessness in Less than Ten Years.

(a) Preventing homelessness.

(b) Developing creative strategies for expanding the availability of affordable housing.

(c) Strengthening the delivery of HUD-funded rental assistance and assistance provided through the low-income housing tax credit

(d) Promoting Self-Sufficiency among residents of public and assisted housing.

(9) Ensuring Equal Opportunity in Housing.

(a) Reducing housing discrimination.

(b) Improving housing accessibility for persons with disabilities.

(10) Embracing High Standards of Ethics, Management, and Accountability.

(a) Reducing fraud, waste, and abuse in HUD-funded programs.

(b) Improving the effectiveness of HUD programs through program evaluations.

(D) Eligible Applicants. You must meet the following conditions:

(1) Have an academic appointment at an institution of higher education and be on a tenure track or term (teaching or research) appointment that will extend beyond the 15-month duration of this fellowship;

(2) Have been awarded a Ph.D. received no earlier than January 1, 1998;

(3) Proposed a research project that can be completed within the 15-month fellowship period;

(4) Received support from your institution as attested to in the letter described below in Section V(C)(2)(c); and

(5) Be a U.S. citizen or legally admitted permanent resident (green card recipient).

(E) Eligible Activities. Your grant must support costs related to completion of your research project. Eligible costs include, but are not limited to, your salary for two summers; graduate assistants to work on the project; up to $2,500 per course for the purchasing of your release time from teaching; computer software; survey development and administration; the purchase of data; travel expenses to collect data or to make presentations at meetings on your findings; transcription services; compensation for interviews; and no more than eight percent of the university's indirect costs.

IV. Application Selection Process

The National Research Council (NRC) will administer the competition and selection process for this program on HUD's behalf. The NRC will conduct two types of reviews: A threshold review to determine your eligibility to apply; and a technical review to rate your application based on the rating factors in this section.

(A) Threshold Factors for Funding Consideration. Under the threshold review, your application can only be rated if the following standards are met:

(1) You are eligible to apply for this program, as defined in Section III (D) above, and have provided a letter from your department chair confirming your eligibility;

(2) You have obtained a mentor and have included a letter from this person confirming this fact and describing his or her role in your research; and

(3) Your institution has agreed to provide some support to you, beyond that provided by this funding, as part of this grant and has provided a letter outlining that support.

(B) Ineligible Activities. Your grant may not be used to pay for tuition, computer hardware, meals and relocation costs, or other costs not directly related to your research project. Fellowship funding cannot be used to substitute for university funding. HUD must approve receipt of additional external grant awards and will do so on a case-by-case basis.

(C) Other Requirements.

(1) Support from your university. Support from your university is required. Institutions will be required at a minimum, to:

(a) Designate a faculty adviser to monitor your progress on your research project;

(b) Provide office space, computer usage, etc.; and

(c) Waive indirect costs above the eight percent allowed to be covered by this fellowship.

In addition, your application will be viewed more favorably if your institution agrees to reduce your course load by at least one course per term or semester, but continues to pay your full salary.

(2) Progress reporting. Award recipients must submit two copies of a progress report halfway through the fellowship tenure that details the progress made to date toward completion of the research project. At the completion of the research project, applicants must furnish three copies of a final paper documenting the research findings, as well as three copies of any publication or presentation based on the research.

(3) Mentors. You will be required to work with a mentor on your research project. The mentor can be someone in your institution or elsewhere and should be a well-respected scholar in the area of your research topic. The mentor will be expected to provide you with advice and direction on substantive research issues. The mentor and the faculty monitor described above can be, but do not have to be, the same person.

(4) Compliance with Fair Housing and Civil Rights Laws. All applicants and their subrecipients must comply with all Fair Housing and civil rights laws, statutes, regulations, and executive orders as enumerated in 24 CFR 5.105(a). In addition, the applicant and any subrecipients must comply with Title IX of the Education Amendments Act of 1972 (20 U.S.C. 1681 et seq.).

NRC will not rate and rank your application under this NOFA if the charge, lawsuit or letter of findings has not been resolved to the satisfaction of the Department before the application deadline. if you, the applicant,

(a) Have been charged with a systemic violation of the Fair Housing Act by the Secretary alleging ongoing discrimination;

(b) Are a defendant in a Fair Housing Act lawsuit filed by the Department of Justice alleging an ongoing pattern or practice of discrimination; or

(c) Have received a letter of noncompliance findings under Title VI, Section 504 or Section 109.

HUD's decision whether a charge, lawsuit, or a letter of findings has been satisfactorily resolved will be based upon whether appropriate actions have been taken to address allegations of ongoing discrimination in the policies or practices involved in the charge, lawsuit, or letter of findings.

(5) Delinquent Federal Debts. Consistent with the purpose and intent of 31 U.S.C. 3720B and 28 U.S.C. 3201(e), no award of federal funds shall be made to an applicant who has an outstanding delinquent federal debt until: (a) The delinquent account is paid in full; (b) a negotiated repayment schedule is established and at least one payment is received; or (c) other arrangements satisfactory to the Department of Housing and Urban Development are made prior to the deadline submission date.

(D) Conflicts of Interest. All individuals involved in rating and ranking this NOFA, including experts and consultants, must avoid conflicts of interest or the appearance of conflicts. Individuals involved in the rating and ranking of applications must disclose to HUD's General Counsel or HUD's Ethics Law Division the following information, if applicable: (a) How the selection or non-selection of any applicant under this NOFA will affect the individual's financial interests, as provided in 18 U.S.C. 208; or, (b) how the application process involves a party with whom the individual has a covered relationship under 5 CFR 2635.502. The individual must disclose this information prior to participating in any matter regarding this NOFA. If you have questions regarding these provisions, or if you have questions concerning a conflict of interest, you may call the Office of General Counsel, Ethics Law Division, at 202-708-3815.

(E) Factors for Award Used to Evaluate and Rate Applications. The factors for rating and ranking applicants and maximum points for each factor are provided below. The maximum number of points for this program is 100.

Rating Factor 1: Capacity to do the Research (15 points). In reviewing this factor, NRC will determine the extent to which your training, past employment, and past written work, such as your dissertation, teaching, coursework, and previously completed research papers that were accepted for presentation or publication, lay a foundation for this proposed work.

Rating Factor 2: Need for the Research (20 points). In reviewing this factor, NRC will determine the extent to which your proposed project undertakes research in an area not covered by previous research or proposes to look at a previously studied research topic in a new and different way. Reviewers will look at the clarity and compelling nature of the case you make for this project in the context of the existing literature and knowledge base for that topic.

Rating Factor 3: Approach (40 total points). (a) Appropriateness of your Methodology and Approach to the Research Topic (25 points). In reviewing this factor, NRC will determine the extent to which your research design and methodology are likely to produce data and information that will successfully answer your research hypothesis. NRC will also evaluate the extent to which the methodology you propose to use is sound and generally accepted by the relevant research community. Reviewers will be looking at the extent to which you use standard methodological practices in line with research already completed or existing publications in the field related to your research questions. Applicants that focus on one of the HUD policy priorities listed above for this year will receive higher points.

(b) Plan for Timely Completion of Your Research Project (10 points). In reviewing this factor, NRC will determine the extent to which your research design and methodology and plan for completion of your research project can feasibly be completed within the 15-month fellowship period. Applications that propose extremely complex and time-consuming data collection efforts (e.g., major longitudinal studies or a very large number of site visits within the grant period) will be determined to be less feasible for completion within the allowed time frame. For example, if you propose a methodology based on information that may not be publicly available until after the end of the grant period (e.g., census information), or a data collection plan that will take longer than the time you have allowed for it, you will get a lower score than if you have presented a time line and methodology that show evidence that the research project can be completed within the grant period.

(c) Quality of the Mentoring Plan (5 points). In reviewing this factor, NRC will determine the appropriateness of the person chosen to be your mentor in terms of his/her previous work, (e.g., research, publications, presentations, standing in the research community, and availability) and the role the mentor has agreed to play in your project. The more time the mentor commits to you, the greater the number of points you will receive.

Rating Factor 4: Leveraging/Commitment of the University (10 points). In reviewing this factor, NRC will determine the extent of the commitment of your university, beyond that required in Section IV (C)(1). The quality of your institution's commitment, in terms of its furthering your research project, will also be evaluated under this factor. For example, your university could propose to cover the cost of a graduate assistant to work on your research project in order to demonstrate its commitment beyond what is minimally required. The larger the commitment, translated into dollar terms, the higher the points. Full points may only be received if your institution designates a faculty adviser and agrees to reduce your course load by one course per semester or term while it continues paying your full salary.

Rating Factor 5: Relevance of Your Research to HUD's Strategic Goals (15 points). In reviewing this factor, NRC will determine the extent to which your proposed research project will produce policy-relevant information that is directly related to one or more of the strategic goals listed above (i.e., the research could improve the effectiveness of HUD's programs and policies and the ability to achieve the stated goals). The less directly related to one of these goals your research project is, the fewer points you will receive. For example, a study of minorities' housing choice decisions would have high relevance to HUD's strategic goals; a study of transportation inequities would have medium relevance; and a study of the effects of global warming on urban development would have low relevance. In addition, this factor reflects HUD's goal to embrace high standards of ethics, management, and accountability and measures your commitment to assess your performance to achieve your proposed research agenda's outcome and/or objective. NRC will evaluate the extent to which you identify activities, outcomes, benchmarks, and performance indicators that will describe how performance will be measured. This information should be provided in a Logic Model format. This form number can be found under the “Additional Required Assurance and Certification” section of this NOFA.

(F) Selections. HUD will fund applications in rank order, until it has awarded all available funds. However, as noted in Section II, HUD reserves the right to make awards for less than the amount requested in your application. After all application selections have been made, HUD may require that you participate in negotiations to determine the specific terms of the fellowship and the grant budget. In cases where HUD cannot successfully complete negotiations, or you fail to provide HUD with requested information, an award will not be made. In such instances, HUD may elect to offer an award to the next highest-ranking applicant, and proceed with negotiations with that applicant.

V. Application Submission Requirements

Your application should include an original and one copy of the items in the order listed below. All pages should be numbered. All applications must be submitted on 8½ by 11-inch paper, double-spaced on one side of the paper, and printed in a standard 12-point font. Please do not exceed the page limits described below. Submitting pages in excess of the page limit will not disqualify your application but the information will not be considered, which may result in a lower score.

(A) Evidence of your eligibility. A letter must be submitted from your faculty chairperson containing the following: (1) Confirmation that you received a doctoral degree no earlier than January 1998; (2) verification of your appointment to a tenure-track or teaching or research position extending beyond the 15-month duration of this fellowship; (3) verification of your U.S. citizenship or evidence of your resident alien status; and (4) the university's name, department, mailing address, telephone, facsimile number, and e-mail address.

(B) Abstract (one page). You must include a summary that describes your proposed research project.

(C) Response to Rating Factors.

(1) Rating Factor 1—Capacity to do the Research

(a) A curriculum vita that contains the following:

(1) Your graduate and post-graduate educational background.

(2) A list of your publications: books, refereed journal articles, chapters contributed to books, articles in published proceedings, and any other articles.

(3) A list of text and poster presentations made during the last five years.

(4) Grants and awards received during the last five years.

(5) Teaching load during the last five years.

(b) A one-page abstract of your dissertation.

(c) Two letters of reference.

(2) Narrative Statement (addresses Factors 2 through 5 listed below): The application narrative must not exceed 15 pages in length (excluding letters, forms, and assurances) double spaced, on one side of the paper, and printed in a standard 12-point front.

(a) Rating Factor 2—Need for the Research

A succinct description of your proposed research and how your proposal is non-duplicative of previously published research.

(b) Rating Factor 3—Approach

Identify your proposed research, methodologies, and the extent to which it will produce data and information to successfully answer your research hypotheses. Include a letter from your mentor that contains his/her address, telephone and facsimile number and email address, states his/her qualifications and availability to be your mentor, and describes his/her proposed role in your research project (excluded from narrative page limit).

(c) Rating Factor 4—Leveraging/Commitment of the University

Provide evidence of your university's support and commitment to you furthering your research and a description of the type of support the institution will provide. Include a firm letter of commitment that outlines the University's total proposed level of support.

(d) Response to Rating Factor 5—Relevance of Research

Address the extent to which your proposed research will further and support HUD's research agenda and reflects HUD's goal to embrace high standards of ethics, management, and accountability and measures your commitment to assess your performance to achieve your proposed research outcome and/or objective. This information should be provided in a Logic Model format. Additional required Assurances and Certifications:

1. Application for Federal Assistance (HUD-424)

2. Application Assurances and Certifications (HUD-424-B)

3. Sample Budget (See Appendix A)

4. Disclosure of Lobbying Activities, (SF Form LLL)

5. Race and Ethnic Data Reporting Form (HUD-27061) (if applicable)

6. Applicant/Recipient Disclosure/Update Report (HUD-2880)

7. Logic Model (HUD-96010)

All forms must be signed by the applicant and can be downloaded from the HUD website at www.hud.gov.

VI. Corrections to Deficient Applications

After the application due date, NRC may not, consistent with HUD regulations in 24 CFR part 4, subpart B, consider any unsolicited information the applicant may want to provide. NRC may contact you to clarify an item in your application or to correct technical deficiencies. NRC may not seek clarification of items or responses that improve the substantive quality of your response to any rating factors. In order not to unreasonably exclude applications from being rated and ranked, NRC may contact applicants to ensure proper completion of the application and will do so on a uniform basis for all applicants. Examples of curable (correctable) technical deficiencies include failure to submit the proper certifications or failure to submit an application that contains an original signature by an authorized official. In each case, NRC will notify you in writing by describing the clarification or technical deficiency.

VII. Environmental Requirements

This NOFA does not direct, provide for assistance or loan and mortgage insurance for, or otherwise govern or regulate, real property acquisition, disposition, leasing, rehabilitation, alteration, demolition, or new construction, or establish, revise or provide for standards for construction or construction materials, manufactured housing, or occupancy. Accordingly, under 24 CFR 50.19(c)(1), this NOFA is categorically excluded from environmental review under the National Environmental Policy Act of 1969 (42 U.S.C. 4321).

VIII. Other Matters

(A) Federalism, Executive Order 13132

This notice does not have federalism implication and does not impose substantial direct compliance costs on state and local governments or preempt state law within the meaning of Executive Order 13132 (entitled “Federalism”).

(B) Intergovernmental Review of Federal Program, Executive Order 12372

This notice is excluded from the intergovernmental review process and therefore should be sent directly to NRC.

(C) Conducting Business in Accordance With Core Values and Ethical Standards

Entities subject to 24 CFR parts 84 and 85 (most non-profit organizations and state, local, and tribal governments or government agencies or instrumentalities who receive federal awards of financial assistance) are required to develop and maintain a written code of conduct (see §§ 84.42 and 85.36(b)(3)). Consistent with regulations governing specific programs, your university's code of conduct must: prohibit real and apparent conflicts of interest that may arise among officers, employees, or agents; prohibit the solicitation and acceptance of gifts or gratuities by your officers, employees, and agents for their personal benefit in excess of minimal value; and outline administrative and disciplinary actions available to remedy violations of such standards. If awarded assistance under this NOFA, you will be required, prior to entering into a grant agreement with HUD, to submit a copy of your university's code of conduct and describe the methods you will use to ensure that all officers, employees, and agents of your organization are aware of your code of conduct. Failure to meet the requirement for a code of conduct will prohibit you from receiving an award document.

(D) Prohibition Against Lobbying Activities

You, the applicant, are subject to the provisions of Section 319 of the Department of Interior and Related Agencies Appropriation Act for Fiscal Year 1991(31 U.S.C. 1352) (the Byrd Amendment), which prohibits recipients of federal contracts, grants, or loans from using appropriated funds for lobbying the executive or legislative branches of the federal government in connection with a specific contract, grant, or loan. You are required to certify, using the certification found at Appendix A to 24 CFR part 87, that you will not and have not used appropriated funds for any prohibited lobbying activities. In addition, you must disclose, using Standard Form LLL “Disclosure of Lobbying Activities,” any funds, other than federally appropriated funds, that will be or have been used to influence federal employees, members of Congress, and congressional staff regarding specific grants or contracts. Federally recognized Indian tribes and tribally designated housing entities (TDHEs) established by federally recognized Indian tribes as a result of the exercise of the tribe's sovereign power are excluded from coverage of the Byrd Amendment, but state-recognized Indian tribes and TDHEs established under state law must comply with this requirement.

(E) Section 102 of the HUD Reform Act, Documentation and Public Access Requirements

Section 102 of the Department of Housing and Urban Development Reform Act of 1989 (42 U.S.C. 3545) (HUD Reform Act) and the regulations codified in 24 CFR part 4, subpart A, contain a number of provisions that are designed to ensure greater accountability and integrity in the provision of certain types of assistance administered by HUD. On January 14, 1992, HUD published a notice that also provides information on the implementation of Section 102 (57 FR 1942). The documentation, public access, and disclosure requirements of Section 102 apply to assistance awarded under this NOFA as follows:

(1) Documentation and public access requirements. HUD will ensure that documentation and other information regarding each application submitted pursuant to this NOFA are sufficient to indicate the basis upon which assistance was provided or denied. This material, including any letters of support, will be made available for public inspection for a five-year period beginning not less than 30 days after the award of the assistance. Material will be made available in accordance with the Freedom of Information Act (5 U.S.C. 552) and HUD's implementing regulations (24 CFR part 15).

(2) Debriefing. Beginning 30 days after the awards for assistance are publicly announced and for at least 120 days after awards for assistance are announced, HUD will provide a debriefing to any applicant requesting one on his or her application. All debriefing requests must be made in writing or by email by the authorized official whose signature appears on the HUD-424 or his or her successor in office, and submitted to the person or organization identified as the Contact under the section entitled “For Further Information and Technical Assistance.” Information provided during a debriefing will include, at a minimum, the final score you received for each rating factor, final evaluator comments for each rating factor, and the final assessment indicating the basis upon which assistance was provided or denied.

(3) Disclosures. HUD will make available to the public for five years all applicant disclosure reports (HUD Form 2880) submitted in connection with this NOFA. Update reports (also reported on HUD Form 2880) will be made available along with the applicant disclosure reports, but in no case for a period of less than three years. All reports, both applicant disclosures and updates, will be made available in accordance with the Freedom of Information Act (5 U.S.C. 552) and HUD's implementing regulations (24 CFR part 5).

(4) Publication of Recipients of HUD Funding. HUD's regulations at 24 CFR part 4 provide that HUD will publish a notice in the Federal Register to notify the public of all decisions made by the Department to provide:

(i) Assistance subject to Section 102(a) of the HUD Reform Act; and/or

(ii) Assistance provided through grants or cooperative agreements on a discretionary (non-formula, non-demand) basis, but that is not provided on the basis of a competition.

(F) Section 103 of the HUD Reform Act. HUD's regulations implementing Section 103 of the Department of Housing and Urban Development Reform Act of 1989 (42 U.S.C. 3537a), codified in 24 CFR part 4, subpart B, 4.26(2)(c) et seq. and 4.28 apply to this funding competition. The regulations continue to apply until the announcement of the selection of successful applicants. HUD employees involved in the review of applications and in the making of funding decisions are limited by the regulations from providing advance information to any person (other than an authorized employee of HUD) concerning funding decisions or from otherwise giving any applicant an unfair competitive advantage. Persons who apply for assistance in this competition should confine their inquiries to the subject areas permitted under 24 CFR part 4.

Applicants or employees who have ethics related questions should contact the HUD Ethics Law Division at 202-708-3815. (This is not a toll-free number.) HUD employees who have specific program questions should contact the appropriate field office counsel or Headquarters counsel for the program to which the question pertains.

(G) Accessible Technology. The Rehabilitation Act Amendments of 1998 (the Act) apply to all electronic information technology (EIT) used by a recipient for transmitting, receiving, using, or storing information to carry out the responsibilities of any federal funds awarded. The Act's coverage includes, but is not limited to, computers (hardware, software, word-processing, email, and web pages), facsimile machines, copiers, and telephones. When developing, procuring, maintaining, or using EIT, funding recipients must ensure that the EIT allows employees with disabilities and members of the public with disabilities to have access to and use of information and data that is comparable to the access and use of information and data by employees and members of the public who do not have disabilities. If these standards impose a hardship on a funding recipient, a recipient may provide an alternative means to allow the individual to use the information and data. However, no recipient will be required to provide information services to a person with disabilities at any location other than the location at which the information services is generally provided.

(H) Name Check Review. Applicants are subject to a name check review process. Name checks are intended to reveal matters that significantly reflect on the applicant's management and financial integrity, or if any key individuals have been convicted or are presently facing criminal charges. If the name check reveals significant adverse findings that reflect on the business integrity or responsibility of the recipient and/or key individual, HUD reserves the right to: (a) Deny funding or consider suspension/termination of an award immediately for cause; (b) require removal of any key individual from association with management of and/or implementation of the award; and (c) make appropriate provisions or revisions with respect to the method of payment and/or financial reporting requirements.

(I) False Statements. A false statement in an application is grounds for denial or termination of an award and grounds for possible punishment as provided in 18 U.S.C. 1001.

(J) Catalog of Federal Domestic Assistance. The Catalog of Federal Domestic Assistance number is: 14.518.

(K) Paperwork Reduction Act Statement. The information collection requirements contained in this NOFA have been approved by the Office of Management and Budget (OMB), under the Paperwork Reduction Act of 1995 (44 U.S.C. 3501-3520) and assigned OMB Control Number 2528-0175. An agency may not conduct or sponsor, and a person is not required to respond to, a collection of information unless the collection displays a valid control number.

IX. Authority

The authority for this program is found in Title V of the Housing and Urban Development Act of 1970 (Public Law 91-609).

Dated: August 11, 2003.
Darlene L. Williams,
General Deputy Assistant Secretary for Policy Development and Research.

BILLING CODE 4210-62-P

[FR Doc. 03-25678 Filed 10-9-03; 8:45 am]

BILLING CODE 4210-62-C